CORPORATION FOR NATIONAL AND COMMUNITY SERVICE

Notice of Funding Opportunity To Support AmeriCorps Promise Fellows

AGENCY: Corporation for National and Community Service.

ACTION: Notice of availability of funds.

SUMMARY: Subject to the availability of appropriations, the Corporation for National and Community Service (the Corporation) will use approximately $6 million to award grants to support AmeriCorps Promise Fellows to state commissions on national and community service (State Commissions); Indian Tribes; nonprofit organizations proposing to sponsor AmeriCorps Promise Fellows in more than one state; and, in North Dakota, South Dakota, or U.S. territories that do not have a State Commission, local government agencies, institutions of higher education, or public or private nonprofit organizations. In total, these grants will support approximately 500 AmeriCorps Promise Fellows. AmeriCorps Promise Fellows will spend up to one year serving with organizations that are committed to initiating, expanding, or improving the delivery of the five promises for children and youth set at the 1997 Presidents' Summit for America's Future:

• Ongoing relationships with caring adults—parents, mentors, tutors or coaches;

• Safe places with structured activities during nonschool hours;

• A healthy start and future;

• Marketable skills through effective education; and

• Opportunities to give back through community service.

DATES: All proposals must be received by the Corporation by 5:00 p.m. Eastern Daylight Time, June 15, 2001.

ADDRESSES: Proposals to sponsor one or more Fellows must be submitted to the Corporation at the following address: Corporation for National Service, 1201 New York Avenue N.W., Box APF, Washington, D.C. 20525.

FOR FURTHER INFORMATION: For further information or to obtain a copy of the AmeriCorps Promise Fellows application guidelines and instructions, contact Austin Holland at (202) 606-5000, extension 274 or aholland@cns.gov. T.D.D. (202) 565-2799. This notice may be requested in an alternative format for the visually impaired. The application guidelines and instructions are also available on the Corporation's web site, http://www.nationalservice.org.

Technical Assistance: The Corporation will host a conference call to provide technical assistance to interested applicants on Thursday, May 3, 2001, at 3 p.m. Eastern Daylight Time. To register for this call and receive dial-in instructions, please contact Austin Holland at (202) 606-5000, extension 274 or aholland@cns.gov.

SUPPLEMENTARY INFORMATION:

Background

The Corporation is a federal government corporation that encourages Americans of all ages and backgrounds to engage in community-based service. This service addresses the nation's educational, public safety, environmental and other human needs to achieve direct and demonstrable results. In doing so, the Corporation fosters civic responsibility, strengthens the ties that bind us together as a people, and provides educational opportunity for those who make a substantial commitment to service. For more information about the Corporation and the activities that it supports, go to http://www.nationalservice.org.

To date, the Corporation has funded the AmeriCorps Promise Fellows program under subtitle H of the National and Community Service Act of 1990, as amended (the Act), which authorizes the Corporation to support “innovative and model programs.” 42 U.S.C. 12653b. The President's budget request for fiscal year 2002 includes a request to fund the AmeriCorps Promise Fellows program under subtitle C of the Act, which authorizes the Corporation to establish the AmeriCorps State/National Grants program. If this request is approved by Congress, we will need to make minor modifications to the grant requirements during the grant negotiation process with approved applicants.

The federal regulations governing the Corporation, published at 45 CFR 2520 et seq., are available at our website at http://www.nationalservice.org/resources/cross/index.html.

History of the AmeriCorps Promise Fellows Program

At the Presidents' Summit for America's Future, held in April 1997 in Philadelphia, President Clinton, former Presidents Bush, Carter, and Ford, Mrs. Nancy Reagan, and General Colin Powell, with the endorsement of many governors, mayors, and leaders of the independent sector, declared: “We have a special obligation to America's children to see that all young Americans have:

1. Caring adults in their lives, as parents, mentors, tutors, coaches;

2. Safe places with structured activities in which to learn and grow;

3. A healthy start and healthy future;

4. An effective education that equips them with marketable skills; and

5. An opportunity to give back to their communities through their own service.”

These five goals are now the five basic promises advanced by America's Promise—The Alliance for Youth, the national organization leading efforts to follow up on the goals of the Presidents' Summit. The AmeriCorps Promise Fellows program was created by the Corporation in partnership with America's Promise to provide leadership, support, and continued momentum to the campaign initiated at the Presidents' Summit.

As a major partner in the efforts of America's Promise, the Corporation devotes a substantial part of its activities to help address the five promises, including the work of AmeriCorps, Learn and Serve America, and the National Senior Service Corps. For more information about America's Promise, visit http://www.americaspromise.org.

Through this notice, the Corporation invites grant proposals from eligible entities that wish to sponsor an AmeriCorps Promise Fellows program.

Eligible Sponsors

The following entities are eligible to apply to sponsor an AmeriCorps Promise Fellows program:

• Governor-appointed state commissions on national and community service (State Commissions),

• Nonprofit organizations proposing to sponsor AmeriCorps Promise Fellows in more than one state (National Directs),

• Indian Tribes, and

• Local government agencies, institutions of higher education, or public or private nonprofit organizations in North Dakota, South Dakota, or U.S. territories that do not have a State Commission.

With the exception of the eligible organizations in North or South Dakota or a U.S. territory that does not have a State Commission, local organizations that want to host a Fellow should consult their respective state commission or a potential National Direct organization or Indian Tribe to discuss the possibility of applying for funding.

Program Structure and Role of the Sponsor

The AmeriCorps Promise Fellows program is structured so that the eligible sponsors listed above are the legal applicants to the Corporation for AmeriCorps Promise Fellows funding. Legal applicants submit one overall proposal for AmeriCorps Promise Fellows funding to the Corporation that may comprise a plan to place Fellows at multiple host organizations in locations around the state or the country, depending on the type of applicant.

Applicants may propose a variety of organizational structures for their AmeriCorps Promise Fellows program. For example, a National Direct applicant may propose to operate its program directly or provide sub-grants to local chapters or affiliates that will host Fellows. State Commissions may sub-grant responsibility for overall program administration to another entity that in turn manages the Fellows' host sites, or the State Commissions may enter directly into separate agreements with each host organization while retaining responsibility for some training and coordination of the program.

The process for selecting sub-grantees or host organizations varies from applicant to applicant. However, applicants are required to demonstrate how their Fellows will be involved in an effort to deliver all five promises in the communities where they serve. This requirement can be fulfilled by demonstrating that Fellows' host organizations deliver all five promises directly or by placing Fellows in organizations that are part of a larger effort to deliver all five. Fellows may also be deployed to initiate or support efforts to develop an all-five effort in organizations or communities that are not currently delivering all five promises in a coordinated way. Individual Fellows may focus on specific promise areas as their primary service objective, but are expected to be knowledgeable ambassadors for the importance of children and youth receiving all five.

Fellows may serve at a State Commission only under limited circumstances. In proposing such an arrangement, a State Commission must describe in its application how it will comply with (1) the prohibition on State Commissions operating any national service program receiving financial assistance from the Corporation and (2) the prohibition on a State Commission receiving Corporation assistance to carry out activities that are already supported by its administrative grant from the Corporation. A State Commission proposing this arrangement must also submit a detailed position description for the Fellow.

Regardless of the organizational structure, the grant requirements specified in the award for this program flow down to all sub-grantees and host organizations, and the legal applicant to the Corporation is ultimately responsible for ensuring that the program is implemented in accordance with all requirements. These requirements, which will be individually described in the grant agreement between the Corporation and the sponsor, include, but are not limited to, the following:

• providing office space, supplies, and equipment

• providing the minimum required living allowance

• providing health insurance that meets the minimum benefits established by the Corporation

• paying and withholding FICA taxes

• withholding income taxes

• providing unemployment insurance if required by State law

• providing workers' compensation if required by State law or obtaining insurance to cover service-related injuries

• providing liability insurance to cover claims relating to Fellows

• providing adequate training and supervision

• ensuring that Fellows do not engage in prohibited activities (such as lobbying)

• complying with statutory prohibitions on the use of Corporation assistance (such as displacement, discrimination)

• providing a grievance procedure that meets statutory standards

• verifying and submitting timely documentation relating to each Fellow's eligibility for an education award

• providing an adequate financial management system

• complying with reporting requirements.

Role and Qualifications of AmeriCorps Promise Fellows

AmeriCorps Promise Fellows are a leadership cadre of committed, talented individuals who dedicate a year of their lives to building a better future for children and youth by spearheading national, state or local efforts to deliver the five promises to young people. AmeriCorps Promise Fellows serve in nonprofit organizations, faith-based organizations, public agencies, colleges and universities, schools and other community-based organizations selected by the sponsor that are dedicated to promoting the five promises and engaged in the America's Promise campaign. While direct service to children and youth may be a component of a Fellow's service, Fellows are primarily capacity-builders. Their service activities expand, strengthen and improve a community's ability to deliver the five promises in sustainable ways. For example, a Fellow may:

• Coordinate a Community of Promise campaign to provide a targeted number of young people with all five promises (for more information on Communities of Promise, visit http://www.americaspromise.org);

• Generate commitments of in-kind services and volunteers from all sectors of the community including businesses, faith-based organizations, nonprofits, public agencies, and civic groups;

• Develop a youth service program at a Volunteer Center;

• Replicate a successful after-school program across the school district;

• Train volunteers to enlist low-income families in health insurance programs;

• Create a job-shadowing program for high school students; or

• Establish a statewide database of effective practices for mentoring programs.

Over the course of their service, Fellows develop specific knowledge of their community's resources related to the five promises, placing them in a unique position to promote the importance of all children receiving all five promises. Therefore, in addition to their specific service assignments, Fellows are expected to become knowledgeable advocates in their communities for the five-promise approach.

Fellows are viewed as leaders in the efforts to implement the goals of the Presidents' Summit, and as a group have an identity tied to this overall effort. Therefore, confidence in the ability of Fellows to produce outcomes in support of the goals of the Presidents' Summit, such as the implementation of projects like those described above, must be a strong consideration for selection of Fellows. This is evidenced by qualifications such as: strong academic credentials; demonstrated leadership skills; prior experience in a field related to the organization's activities; and experience performing significant service-related activities, particularly through other national service programs. An ability to take initiative and work independently may also be important qualifications for Fellows who often serve as the only AmeriCorps member at their host organization.

AmeriCorps Promise Fellows may not be used to supplement the numbers of AmeriCorps members at existing programs already carrying out activities consistent with the goals of the Presidents' Summit. Fellows may serve at existing AmeriCorps programs, but must have roles that are distinct from other AmeriCorps members and that are consistent with the goals of the AmeriCorps Promise Fellows program.

An AmeriCorps Promise Fellow must: (1) be at least 17 years of age at the commencement of service; (2) be a U.S. citizen, national, or lawful permanent resident alien of the United States; and (3) have a high school diploma or equivalency certificate (or agrees to obtain a high school diploma or its equivalent before using an education award) and who has not dropped out of elementary or secondary school in order to enroll as an AmeriCorps member (unless enrolled in an institution of higher education on an ability to benefit basis and is considered eligible for funds under section 484 of the Higher Education Act of 1965, 20 U.S.C. 1091), or who has been determined through an independent assessment conducted by the Program to be incapable of obtaining a high school diploma or its equivalent (provided that the Corporation's AmeriCorps program office has waived the education attainment requirement for the individual). Individuals who have already served in two approved national service positions (a position for which an education award is provided) are, by statute, not eligible for a third education award.

Required Benefits and Terms of Service

Fellows must serve on a full-time basis for a term of no less than 10 months and no more than 12 months. To qualify for an education award of $4,725, a Fellow must perform at least 1,700 hours of service during his or her term and complete any other requirements for completion that the sponsor established at the start of the term.

Sponsors must provide Fellows a living allowance between $13,000 and $18,600 based on a twelve-month term of service. If the term of service is shorter than twelve months, the sponsor must pro-rate the amount of the living allowance.

Sponsors are required to provide health insurance to Fellows that meets the minimum benefits set by the Corporation as described in detail in the application guidelines and instructions.

Contents of the Sponsor Application

Applicants must submit one unbound, single-sided original and two (2) copies of the application. All applicants are encouraged to voluntarily submit an additional four (4) copies of the application to expedite the review process. Facsimiles will not be accepted. Type and double-space the submission package in not less than 12-point font size, with one-inch margins. Please number the narrative pages. You must follow the page limits specified in the application instructions. If you exceed a page limit, we will remove any excess pages before reviewing your application. We will not accept appendices.

Additional detailed instructions about the format and content of the application appear in the application guidelines and instructions.

Budget and Finances

The Corporation will issue grants on a fixed amount per Fellow basis of up to $13,800 per Fellow for the first five Fellows awarded to a grantee and up to $10,800 per Fellow beyond five, unless the Corporation specifies otherwise. These amounts exclude the education award. Applicants may request up to 30 Fellows to be funded at the fixed amounts described above. If the applicant identifies non-Corporation resources to support the entire cost of a Fellow(s), including the minimum required living allowance, the Corporation may approve additional education awards to allow an applicant to enlarge the size of its program. In such instances, the Corporation may also provide up to $800 per Fellow beyond the first 30 Fellows to support costs such as health insurance and member training and development.

Because these grants are fixed-amount awards, they do not require Corporation monitoring of actual costs incurred. The cost principles normally applicable to Federal awards do not apply. The sponsor assumes full financial responsibility for the program and must provide the additional financial support necessary to carry out their proposed AmeriCorps Promise Fellows program. The sponsor should indicate the amounts and types of additional financial support required for the program in the budget narrative of the application.

In addition to the approved grant amount, the Corporation will provide an education award to Fellows who successfully complete their term of service.

The project period is negotiable, but generally proposals should indicate a proposed program start date between October 1, 2001 and January 1, 2002.

The Corporation anticipates that these grants will cover up to a three-year period, subject to performance and the availability of appropriations. The funding opportunity announced under this Notice is to cover the first year.

Process for Selecting Sponsors

In selecting sponsors, the Corporation will use the following evaluation criteria:

Program Design 60%

• Getting Things Done

• Participant Development

• Strengthening Communities

Organizational Capacity 25%

Budget/Cost Effectiveness 15%

The Corporation will make all final decisions concerning approval of these grants. Upon initial approval of an application, the Corporation will enter into negotiations with the sponsor that may require revisions to the original grant proposal. Final approval of the application is contingent on completion of negotiations to the Corporation's satisfaction.

The Corporation anticipates announcing selected applicants under this announcement by August 15, 2001.

Dated: April 10, 2001.
Robert Torvestad,
Acting Director, AmeriCorps.

[FR Doc. 01-9313 Filed 4-13-01; 8:45 am]

BILLING CODE 6050-$$-P